INTERNATIONAL TRADE COMMISSION

Appointment of Individuals To Serve as Members of the Performance Review Board

AGENCY: United States International Trade Commission.

ACTION: Appointment of individuals to serve as members of Performance Review Board.

DATES: Applicable Date: June 29, 2020.

FOR FURTHER INFORMATION CONTACT: Eric Mozie, Director of Human Resources, or Ronald Johnson, U.S. International Trade Commission (202) 205-2651.

SUPPLEMENTARY INFORMATION: The Chair of the U.S. International Trade Commission has appointed the following individuals to serve on the Commission's Performance Review Board (PRB):

Chair of the PRB: Vice Chair Randolph Stayin

Vice-Chair of the PRB: Commissioner Amy Karpel

Member—John Ascienzo

Member—Dominic Bianchi

Member—Nannette Christ

Member—Jonathan Coleman

Member—Catherine DeFilippo

Member—Margaret Macdonald

Member—Stephen A. McLaughlin

Member—William Powers

Member—Keith Vaughn

This notice is published in the Federal Register pursuant to the requirement of 5 U.S.C. 4314(c)(4). Hearing impaired individuals are advised that information on this matter can be obtained by contacting our TDD terminal on (202) 205-1810.

By order of the Chair.
Issued: December 8, 2021.
Lisa Barton,
Secretary to the Commission.

[FR Doc. 2021-26972 Filed 12-13-21; 8:45 am]

BILLING CODE 7020-02-P